DEPARTMENT OF HOMELAND SECURITY

Coast Guard

33 CFR Part 147

[Docket Number USCG-2023-0985]

RIN 1625-AA00

Safety Zone; Coastal Virginia Offshore Wind—Commercial Wind Farm Project Area, Outer Continental Shelf, Lease OCS-A 0483, Offshore Virginia, Atlantic Ocean

AGENCY: Coast Guard, Department of Homeland Security (DHS).

ACTION: Notice of proposed rulemaking.

SUMMARY: The Coast Guard proposes to establish 179 temporary 500-meter safety zones around the construction of 176 wind turbine generators and three offshore substations in Federal waters on the Outer Continental Shelf, east-northeast of Virginia Beach, Virginia. This action would protect life, property, and the environment during construction of their foundations and their subsequent installation, from May 1, 2024, to May 1, 2027. When subject to enforcement, only attending vessels and those vessels specifically authorized by the Fifth Coast Guard District Commander, or a designated representative, are permitted to enter or remain in the temporary safety zones.

DATES: Comments and related material must be received by the Coast Guard on or before February 26, 2024.

ADDRESSES: You may submit comments identified by docket number USCG-2023-0985 using the Federal Decision-Making Portal at https://www.regulations.gov. See the “Public Participation and Request for Comments” portion of SUPPLEMENTARY INFORMATION. This notice of proposed rulemaking with its plain-language, 100-word-or-less proposed rule summary will be available in this same docket.

FOR FURTHER INFORMATION CONTACT: If you have questions about this proposed rulemaking, call or email Mr. Matthew Creelman, Waterways Management, at Coast Guard Fifth District, telephone 757-398-6230, email Matthew.K.Creelman2@uscg.mil.

SUPPLEMENTARY INFORMATION:

I. Table of Abbreviations

BOEM Bureau of Ocean Energy Management

CFR Code of Federal Regulations

CVOWCWF Coastal Virginia Offshore Wind—Commercial Wind Farm

DMS Degrees Minutes Seconds

DHS Department of Homeland Security

FR Federal Register

NPRM Notice of Proposed Rulemaking

OCS Outer Continental Shelf

OSS Offshore Substation

WGS 84 World Geodetic System 84

NM Nautical Mile

§ Section

U.S.C. United States Code

WTG Wind Turbine Generator

II. Background, Purpose, and Legal Basis

On December 13, 2023, the Virginia Electric and Power Company, doing business as Dominion Energy, notified the Coast Guard that they plan to begin construction of facilities in the Coastal Virginia Offshore Wind-Commercial Wind Farm (CVOWCWF) project area within Federal waters on the Outer Continental Shelf (OCS), specifically in the Bureau of Ocean Energy Management (BOEM) Renewable Energy Lease Area OCS-A 0483, approximately 23 nautical miles (NM) east-northeast of Virginia Beach, Virginia.

The construction of these OCS facilities, which is inherently complex because of their location offshore, presents many unusually hazardous conditions, including those presented by hydraulic pile driving hammer operations, heavy lift operations, overhead cutting operations, the risk that debris will fall, increased vessel traffic in support of construction, and the presence of stationary barges in close proximity to the facilities and each other.

The Fifth Coast Guard District Commander has determined that the establishment of temporary safety zones during construction of WTGs and substation, is warranted to ensure the safety of life, property, and the environment. Each temporary safety zone will have a 500-meter radius around an individual construction site and be enforced only during construction.

The Coast Guard is proposing this rule under the authorities provided in 14 U.S.C. 544, 43 U.S.C. 1333, and Department of Homeland Security (DHS) Delegation No. 00170.1, Revision No. 01.3. Pursuant to those authorities, 33 CFR 147.10 provides for the establishment of safety zones for non-mineral energy resource, permanent or temporary structures located on the OCS for the purpose of protecting life and property on the facilities, its appurtenances and attending vessels, or on the adjacent waters within the safety zone. A safety zone established under 33 CFR part 147 may include provisions to restrict, prevent, or control certain activities (including access by vessels or persons) to maintain safety of life, and to protect property and the environment.

III. Discussion of Proposed Rule

The District Commander is proposing to establish 179 temporary 500-meter safety zones around the construction sites of 176 WTGs and three OSSs on the OCS from May 1, 2024, through 11:59 p.m. on May 1, 2027. Construction will take place in the CVOWCWF project area, more specifically, in the BOEM Renewable Energy Lease Area OCS-A-0483 approximately 23 NM east-northeast of Virginia Beach, Virginia, within Federal waters on the OCS.

The construction of these facilities is expected to take place in mixed phases alternating between the installation of several monopile type foundations followed by the installation of the upper structures then repeating this process throughout the project area until all 179 facilities have been completed. Each of the 179 temporary safety zones would be subject to enforcement individually, at different times, as construction progresses from one structure location to the next. The entire process of constructing an individual structure is expected to last approximately 48 hours. The Coast Guard would provide notice of each enforcement period via the Local Notice to Mariners and issue a Broadcast Notice to Mariners via marine channel 16 (VHF-FM) as soon as practicable in response to notification of the beginning of construction at an individual site. The Coast Guard is proposing this rulemaking be effective through May 1, 2027, in case there are any construction delays due to weather or other unforeseen circumstances. If the project is completed before May 1, 2027, however, enforcement of the safety zones would be suspended, and notice of such would be given via Local Notice to Mariners.

The positions of each individual safety zone proposed by this rulemaking are referred to using a unique alpha-numeric naming convention.

Consistent with size limitations on OCS safety zones in 33 CFR 147.15, the proposed safety zones would include the area within 500 meters around the center points of the positions provided in the table below while each structure is under active construction. The positions are expressed in Degree Minutes Second (DMS) based on World Geodetic System 84 (WGS 84).

Name | Facility type | Latitude | Longitude
G1K11 | WTG | 36°52′10.43097128″ N | 075°20′50.55112518″ W
G1M03 | WTG | 36°50′17.85976540″ N | 075°28′04.02927152″ W
G1K12 | WTG | 36°52′10.59092864″ N | 075°19′54.56958689″ W
G1M04 | WTG | 36°50′18.07627889″ N | 075°27′08.07134847″ W
G1K13 | WTG | 36°52′10.74355846″ N | 075°18′58.58792867″ W
G1M05 | WTG | 36°50′18.28547996″ N | 075°26′12.11326220″ W
G1K14 | WTG | 36°52′10.88886719″ N | 075°18′02.60615617″ W
G1M06 | WTG | 36°50′18.48736529″ N | 075°25′16.15501832″ W
G1K15 | WTG | 36°52′11.02685154″ N | 075°17′06.62427499″ W
G1M07 | WTG | 36°50′18.68193157″ N | 075°24′20.19662240″ W
G1K16 | WTG | 36°52′11.15750822″ N | 075°16′10.64229074″ W
G1M08 | WTG | 36°50′18.86918522″ N | 075°23′24.23808009″ W
G1K17 | WTG | 36°52′11.28084368″ N | 075°15′14.66020907″ W
G1M09 | WTG | 36°50′19.04912296″ N | 075°22′28.27939699″ W
G1K18 | WTG | 36°52′11.39685463″ N | 075°14′18.67803558″ W
G1M10 | WTG | 36°50′19.22174146″ N | 075°21′32.32057869″ W
G1K19 | WTG | 36°52′11.50553780″ N | 075°13′22.69577588″ W
G1M11 | WTG | 36°50′19.38704718″ N | 075°20′36.36163083″ W
G1L03 | WTG | 36°51′13.39015630″ N | 075°28′11.19226080″ W
G1M12 | WTG | 36°50′19.54503681″ N | 075°19′40.40255901″ W
G1L04 | WTG | 36°51′13.60768637″ N | 075°27′15.22311182″ W
G1M13 | WTG | 36°50′19.69570706″ N | 075°18′44.44336883″ W
G1L05 | WTG | 36°51′13.81789345″ N | 075°26′19.25379877″ W
G1M14 | WTG | 36°50′19.83906437″ N | 075°17′48.48406591″ W
G1L06 | WTG | 36°51′14.02078396″ N | 075°25′23.28432730″ W
G1M15 | WTG | 36°50′19.97510546″ N | 075°16′52.52465182″ W
G1L07 | WTG | 36°51′14.21635459″ N | 075°24′27.31470302″ W
G1M16 | WTG | 36°50′20.10382703″ N | 075°15′56.56514024″ W
G1L08 | WTG | 36°51′14.40460203″ N | 075°23′31.34493152″ W
G1M17 | WTG | 36°50′20.22523552″ N | 075°15′00.60553275″ W
G1L09 | WTG | 36°51′14.58553272″ N | 075°22′35.37501844″ W
G1M18 | WTG | 36°50′20.33932767″ N | 075°14′04.64583497″ W
G1L10 | WTG | 36°51′14.75914336″ N | 075°21′39.40496939″ W
G1M19 | WTG | 36°50′20.44610343″ N | 075°13′08.68605250″ W
G1L12 | WTG | 36°51′15.08440100″ N | 075°19′47.46448580″ W
G1N03 | WTG | 36°49′22.32924535″ N | 075°27′56.82891331″ W
G1L13 | WTG | 36°51′15.23605115″ N | 075°18′51.49406251″ W
G1N04 | WTG | 36°49′22.54474453″ N | 075°27′00.88220767″ W
G1L14 | WTG | 36°51′15.38038104″ N | 075°17′55.52352570″ W
G1N05 | WTG | 36°49′22.75293211″ N | 075°26′04.93533961″ W
G1L15 | WTG | 36°51′15.51738738″ N | 075°16′59.55288098″ W
G1N06 | WTG | 36°49′22.95380477″ N | 075°25′08.98831473″ W
G1L16 | WTG | 36°51′15.64707661″ N | 075°16′03.58213399″ W
G1N07 | WTG | 36°49′23.14736895″ N | 075°24′13.04113865″ W
G1L17 | WTG | 36°51′15.76944545″ N | 075°15′07.61129032″ W
G1N08 | WTG | 36°49′23.33362134″ N | 075°23′17.09381697″ W
G1L18 | WTG | 36°51′15.88449062″ N | 075°14′11.64035558″ W
G1N09 | WTG | 36°49′23.51255863″ N | 075°22′21.14635529″ W
G1L19 | WTG | 36°51′15.99221858″ N | 075°13′15.66933541″ W
G1N10 | WTG | 36°49′23.68418726″ N | 075°21′25.19875519″ W
G1N11 | WTG | 36°49′23.84850393″ N | 075°20′29.25103034″ W
G2F06 | WTG | 36°55′51.61831765″ N | 075°25′59.09646230″ W
G1N12 | WTG | 36°49′24.00550534″ N | 075°19′33.30318231″ W
G2F07 | WTG | 36°55′51.81892515″ N | 075°25′03.07058271″ W
G1N13 | WTG | 36°49′24.15519793″ N | 075°18′37.35521671″ W
G2F08 | WTG | 36°55′52.01218908″ N | 075°24′07.04455187″ W
G1N14 | WTG | 36°49′24.29757841″ N | 075°17′41.40713915″ W
G2F09 | WTG | 36°55′52.19811586″ N | 075°23′11.01837544″ W
G1N15 | WTG | 36°49′24.43264349″ N | 075°16′45.45895522″ W
G2F10 | WTG | 36°55′52.37670219″ N | 075°22′14.99205905″ W
G1N16 | WTG | 36°49′24.56039962″ N | 075°15′49.51067054″ W
G2F11 | WTG | 36°55′52.54794477″ N | 075°21′18.96560832″ W
G1N17 | WTG | 36°49′24.68084352″ N | 075°14′53.56229072″ W
G2G03 | WTG | 36°54′55.47610540″ N | 075°28′39.95488075″ W
G1N18 | WTG | 36°49′24.79397189″ N | 075°13′57.61382134″ W
G2G04 | WTG | 36°54′55.69770649″ N | 075°27′43.94075021″ W
G1N19 | WTG | 36°49′24.89979121″ N | 075°13′01.66526804″ W
G2G05 | WTG | 36°54′55.91197477″ N | 075°26′47.92645237″ W
G2B06 | WTG | 36°59′33.71078023″ N | 075°26′27.78408472″ W
G2G06 | WTG | 36°54′56.11890692″ N | 075°25′51.91199284″ W
G2B07 | WTG | 36°59′33.91543395″ N | 075°25′31.71304424″ W
G2G08 | WTG | 36°54′56.51075936″ N | 075°23′59.88261121″ W
G2C05 | WTG | 36°58′38.57467997″ N | 075°27′20.62031850″ W
G2G09 | WTG | 36°54′56.69568276″ N | 075°23′03.86770040″ W
G2C06 | WTG | 36°58′38.21250366″ N | 075°26′20.58758650″ W
G2G10 | WTG | 36°54′56.87326655″ N | 075°22′07.85265041″ W
G2C07 | WTG | 36°58′38.41606238″ N | 075°25′24.55006971″ W
G2H03 | WTG | 36°53′59.94685093″ N | 075°28′32.77985639″ W
G2D04 | WTG | 36°57′42.25404052″ N | 075°28′05.53076883″ W
G2H04 | WTG | 36°54′00.16743776″ N | 075°27′36.77698565″ W
G2D05 | WTG | 36°57′42.47136588″ N | 075°27′09.48264513″ W
G2H05 | WTG | 36°54′00.38069261″ N | 075°26′40.77394842″ W
G2D06 | WTG | 36°57′42.68134287″ N | 075°26′13.43435729″ W
G2H06 | WTG | 36°54′00.58661217″ N | 075°25′44.77075028″ W
G2D07 | WTG | 36°57′42.88396818″ N | 075°25′17.38591093″ W
G2H07 | WTG | 36°54′00.78520287″ N | 075°24′48.76739692″ W
G2D08 | WTG | 36°57′43.07924823″ N | 075°24′21.33731172″ W
G2H08 | WTG | 36°54′00.97646139″ N | 075°23′52.76389394″ W
G2D09 | WTG | 36°57′43.26717972″ N | 075°23′25.28856531″ W
G2H09 | WTG | 36°54′01.16038445″ N | 075°22′56.76024694″ W
G2D10 | WTG | 36°57′43.44775934″ N | 075°22′29.23967731″ W
G2J03 | WTG | 36°53′04.41747586″ N | 075°28′25.56744405″ W
G2D11 | WTG | 36°57′43.62099353″ N | 075°21′33.19065340″ W
G2J04 | WTG | 36°53′04.63703769″ N | 075°27′29.57582449″ W
G2E03 | WTG | 36°56′46.50113710″ N | 075°28′54.35420276″ W
G2J05 | WTG | 36°53′04.84927487″ N | 075°26′33.58403927″ W
G2E04 | WTG | 36°56′46.72478481″ N | 075°27′58.31753397″ W
G2J06 | WTG | 36°53′05.05418408″ N | 075°25′37.59209399″ W
G2E05 | WTG | 36°56′46.94108831″ N | 075°27′02.28069620″ W
G2J07 | WTG | 36°53′05.25176202″ N | 075°24′41.59999425″ W
G2E06 | WTG | 36°56′47.15004427″ N | 075°26′06.24369509″ W
G2J09 | WTG | 36°53′05.62494006″ N | 075°22′49.61534996″ W
G2E07 | WTG | 36°56′47.35165913″ N | 075°25′10.20653631″ W
G2K03 | WTG | 36°52′08.88765106″ N | 075°28′18.39844436″ W
G2E08 | WTG | 36°56′47.54592958″ N | 075°24′14.16922549″ W
G2K04 | WTG | 36°52′09.10620073″ N | 075°27′22.41806364″ W
G2E09 | WTG | 36°56′47.73285231″ N | 075°23′18.13176420″ W
G2K05 | WTG | 36°52′09.31742657″ N | 075°26′26.43752208″ W
G2E10 | WTG | 36°56′47.91243374″ N | 075°22′22.09416621″ W
G2K06 | WTG | 36°52′09.52132527″ N | 075°25′30.45682126″ W
G2E11 | WTG | 36°56′48.08467058″ N | 075°21′26.05643310″ W
G2K07 | WTG | 36°52′09.71790326″ N | 075°24′34.47596683″ W
G2F03 | WTG | 36°55′50.97245702″ N | 075°28′47.17314135″ W
G2K08 | WTG | 36°52′09.90715725″ N | 075°23′38.49496439″ W
G2F04 | WTG | 36°55′51.19508514″ N | 075°27′51.14774524″ W
G2K09 | WTG | 36°52′10.08908391″ N | 075°22′42.51381954″ W
G2F05 | WTG | 36°55′51.41036987″ N | 075°26′55.12218502″ W
G3F14 | WTG | 36°55′53.01763543″ N | 075°18′30.88550656″ W
G3B12 | WTG | 36°59′34.82834796″ N | 075°20′51.35563765″ W
G3F15 | WTG | 36°55′53.15951871″ N | 075°17′34.85857490″ W
G3B13 | WTG | 36°59′34.98885750″ N | 075°19′55.28375508″ W
G3F16 | WTG | 36°55′53.29406124″ N | 075°16′38.83153710″ W
G3B14 | WTG | 36°59′35.14201327″ N | 075°18′59.21175196″ W
G3F19 | WTG | 36°55′53.65364064″ N | 075°13′50.74984322″ W
G3B15 | WTG | 36°59′35.28781198″ N | 075°18′03.13963394″ W
G3G11 | WTG | 36°54′57.04351716″ N | 075°21′11.83746691″ W
G3B16 | WTG | 36°59′35.42625034″ N | 075°17′07.06740666″ W
G3G12 | WTG | 36°54′57.20643128″ N | 075°20′15.82215551″ W
G3B17 | WTG | 36°59′35.55733479″ N | 075°16′10.99507580″ W
G3G13 | WTG | 36°54′57.36200563″ N | 075°19′19.80672183″ W
G3B18 | WTG | 36°59′35.68106205″ N | 075°15′14.92264701″ W
G3G14 | WTG | 36°54′57.51024665″ N | 075°18′23.79117153″ W
G3C12 | WTG | 36°58′39.32403511″ N | 075°20′44.22693929″ W
G3G16 | WTG | 36°54′57.78471551″ N | 075°16′31.75974356″ W
G3C13 | WTG | 36°58′39.48355669″ N | 075°19′48.16635951″ W
G3G17 | WTG | 36°54′57.91094652″ N | 075°15′35.74387716″ W
G3C14 | WTG | 36°58′39.63572535″ N | 075°18′52.10565996″ W
G3G18 | WTG | 36°54′58.02984078″ N | 075°14′39.72791666″ W
G3C16 | WTG | 36°58′39.91800046″ N | 075°16′59.98392414″ W
G3G19 | WTG | 36°54′58.14139499″ N | 075°13′43.71186768″ W
G3C17 | WTG | 36°58′40.04811007″ N | 075°16′03.92289920″ W
G3H12 | WTG | 36°54′01.66816614″ N | 075°20′08.74849831″ W
G3C18 | WTG | 36°58′40.17086334″ N | 075°15′07.86177303″ W
G3H13 | WTG | 36°54′01.82276296″ N | 075°19′12.74433164″ W
G3C19 | WTG | 36°58′40.28626670″ N | 075°14′11.80055940″ W
G3H14 | WTG | 36°54′01.97002729″ N | 075°18′16.74004507″ W
G3C20 | WTG | 36°58′40.39431689″ N | 075°13′15.73925991″ W
G3H16 | WTG | 36°54′02.24255501″ N | 075°16′24.73115496″ W
G3D12 | WTG | 36°57′43.78687899″ N | 075°20′37.14149923″ W
G3H17 | WTG | 36°54′02.36782157″ N | 075°15′28.72655864″ W
G3D13 | WTG | 36°57′43.94541242″ N | 075°19′41.09222040″ W
G3H19 | WTG | 36°54′02.59635341″ N | 075°13′36.71709160″ W
G3D14 | WTG | 36°57′44.09660027″ N | 075°18′45.04281857″ W
G3J12 | WTG | 36°53′06.12974216″ N | 075°20′01.63737188″ W
G3D16 | WTG | 36°57′44.37692600″ N | 075°16′52.94368860″ W
G3J13 | WTG | 36°53′06.28335394″ N | 075°19′05.64446363″ W
G3D17 | WTG | 36°57′44.50606705″ N | 075°15′56.89396774″ W
G3J15 | WTG | 36°53′06.56858897″ N | 075°17′13.65830753″ W
G3D18 | WTG | 36°57′44.62785910″ N | 075°15′00.84415047″ W
G3J16 | WTG | 36°53′06.70021537″ N | 075°16′17.66507094″ W
G3D19 | WTG | 36°57′44.74230209″ N | 075°14′04.79424245″ W
G3J17 | WTG | 36°53′06.82450998″ N | 075°15′21.67173614″ W
G3D20 | WTG | 36°57′44.84939275″ N | 075°13′08.74424932″ W
G3J18 | WTG | 36°53′06.94147924″ N | 075°14′25.67830877″ W
G3E13 | WTG | 36°56′48.40710702″ N | 075°19′33.98058407″ W
G3J19 | WTG | 36°53′07.05111989″ N | 075°13′29.68479445″ W
G3E14 | WTG | 36°56′48.55730976″ N | 075°18′37.94247944″ W
T1L11 | OSS | 36°51′14.92543064″ N | 075°20′43.43478996″ W
G3E15 | WTG | 36°56′48.70016447″ N | 075°17′41.90426225″ W
T2G07 | OSS | 36°54′56.31849964″ N | 075°24′55.89737723″ W
G3E16 | WTG | 36°56′48.83567758″ N | 075°16′45.86593816″ W
T3G15 | OSS | 36°54′57.65115104″ N | 075°17′27.77551023″ W
G3E17 | WTG | 36°56′48.96384581″ N | 075°15′49.82751279″ W
G3E18 | WTG | 36°56′49.08466587″ N | 075°14′53.78899178″ W
G3F12 | WTG | 36°55′52.71185004″ N | 075°20′22.93902891″ W
G3F13 | WTG | 36°55′52.86841469″ N | 075°19′26.91232645″ W

The positions of the 179 proposed safety zones are shown on the chartlets below. For scaling purposes, the grid spacing is 0.95 x 0.8 NM.

BILLING CODE 9110-04-P

BILLING CODE 9110-04-C

Navigation in the vicinity of the proposed safety zones consists of large commercial shipping vessels, fishing vessels, cruise ships, tugs with tows, and recreational vessels.

When subject to enforcement, no unauthorized vessel or person would be permitted to enter a safety zone without obtaining permission from the Fifth Coast Guard District Commander or a designated representative. Requests for entry into the safety zone would be considered and reviewed on a case-by-case basis. Persons or vessels seeking to enter the safety zone must request authorization from the Fifth Coast Guard District Commander or designated representative via VHF-FM channel 16 or by phone at 757-398-6391 (Fifth Coast Guard District Command Center). If permission is granted, all persons and vessels shall comply with the instructions of the Fifth Coast Guard District Commander or designated representative.

The proposed regulatory text appears at the end of this document.

IV. Regulatory Analyses

We developed this proposed rule after considering numerous statutes and Executive orders related to rulemaking. A summary of our analyses based on these statutes and Executive orders follows.

A. Regulatory Planning and Review

Executive Orders 12866 and 13563 direct agencies to assess the costs and benefits of available regulatory alternatives and, if regulation is necessary, to select regulatory approaches that maximize net benefits. This NPRM has not been designated a “significant regulatory action,” under Executive Order 12866. Accordingly, the NPRM has not been reviewed by the Office of Management and Budget (OMB).

Aligning with 33 CFR 147.15, the safety zones established would extend to a maximum distance of 500-meters around the OCS facility measured from its center point. Vessel traffic would be able to safely transit around each of the proposed safety zones, which would occupy a small, designated area in the Atlantic Ocean, without significant impediment to their voyage. These safety zones would provide for the safety of life, and the protection of property, and of the environment during the construction of each structure, in accordance with Coast Guard maritime safety missions.

B. Impact on Small Entities

The Regulatory Flexibility Act of 1980, 5 U.S.C. 601-612, as amended, requires Federal agencies to consider the potential impact of regulations on small entities during rulemaking. The term “small entities” comprises small businesses, not-for-profit organizations that are independently owned and operated and are not dominant in their fields, and governmental jurisdictions with populations of less than 50,000. The Coast Guard certifies under 5 U.S.C. 605(b) that this proposed rule would not have a significant economic impact on a substantial number of small entities.

This proposed rule may affect owners or operators of vessels intending to transit or anchor in the CVOWCWF, some of which might be small entities. However, these safety zones would not have a significant economic impact on a substantial number of these entities because they would be subject to enforcement only for short, temporary periods, they would allow for deviation requests, and would not be expected to impact vessel transit significantly. Regarding the enforcement period, although these safety zones would be in effect from May 1, 2024, through May 1, 2027, vessels would only be prohibited from entering or remaining in the regulated zone during periods of actual construction activity corresponding to the period of enforcement. We expect the enforcement period at each location to last approximately 48 hours as construction progresses from one structure location to the next throughout the mixed phases. Additionally, vessel traffic could pass safely around each safety zone using an alternate route. Use of an alternate route likely would cause minimal delay for the vessel in reaching their destination depending on other traffic in the area and vessel speed. Vessels would also be able to request deviation from this rule to transit through a safety zone. Such requests would be considered on a case by-case basis and may be authorized by the Fifth Coast Guard District Commander or a designated representative. For these reasons, the Coast Guard expects any impact of this rulemaking establishing a temporary safety zone around these OCS facilities to be minimal and have no significant economic impact on small entities.

If you think that your business, organization, or governmental jurisdiction qualifies as a small entity and that this proposed rule would have a significant economic impact on it, please submit a comment (see ADDRESSES) explaining why you think it qualifies and how and to what degree this rule would economically affect it.

Under section 213(a) of the Small Business Regulatory Enforcement Fairness Act of 1996 (Pub. L. 104-121), we want to assist small entities in understanding this proposed rule. If the proposed rule would affect your small business, organization, or governmental jurisdiction and you have questions concerning its provisions or options for compliance, please call or email the person listed in the FOR FURTHER INFORMATION CONTACT section. The Coast Guard will not retaliate against small entities that question or complain about this proposed rule or any policy or action of the Coast Guard.

C. Collection of Information

This proposed rule would not call for a new collection of information under the Paperwork Reduction Act of 1995 (44 U.S.C. 3501-3520).

D. Federalism and Indian Tribal Governments

A rule has implications for federalism under Executive Order 13132 (Federalism), if it has a substantial direct effect on the States, on the relationship between the National Government and the States, or on the distribution of power and responsibilities among the various levels of government. We have analyzed this proposed rule under that order and have determined that it is consistent with the fundamental federalism principles and preemption requirements described in Executive Order 13132.

Also, this proposed rule does not have tribal implications under Executive Order 13175 (Consultation and Coordination with Indian Tribal Governments) because it would not have a substantial direct effect on one or more Indian tribes, on the relationship between the Federal Government and Indian tribes, or on the distribution of power and responsibilities between the Federal Government and Indian tribes. If you believe this proposed rule has implications for federalism or Indian tribes, please call or email the person listed in the FOR FURTHER INFORMATION CONTACT section.

E. Unfunded Mandates Reform Act

The Unfunded Mandates Reform Act of 1995 (2 U.S.C. 1531-1538) requires Federal agencies to assess the effects of their discretionary regulatory actions. In particular, the Act addresses actions that may result in the expenditure by a State, local, or Tribal Government, in the aggregate, or by the private sector of $100,000,000 (adjusted for inflation) or more in any one year. Though this proposed rule would not result in such an expenditure, we do discuss the potential effects of this proposed rule elsewhere in this preamble.

F. Environment

We have analyzed this proposed rule under Department of Homeland Security Directive 023-01, Rev. 1, associated implementing instructions, and Environmental Planning COMDTINST 5090.1 (series), which guide the Coast Guard in complying with the National Environmental Policy Act of 1969 (42 U.S.C. 4321-4370f), and have made a preliminary determination that this action is one of a category of actions that do not individually or cumulatively have a significant effect on the human environment. This proposed rule involves the establishment of a safety zone around an OCS facility to protect life, property, and the marine environment. Normally such actions are categorically excluded from further review under paragraph L60 of Appendix A, Table 1 of DHS Instruction Manual 023-01-001-01, Rev. 1. A preliminary Record of Environmental Consideration supporting this determination is available in the docket. For instructions on locating the docket, see the ADDRESSES section of this preamble. We seek any comments or information that may lead to the discovery of a significant environmental impact from this proposed rule.

G. Protest Activities

The Coast Guard respects the First Amendment rights of protesters. Protesters are asked to call or email the person listed in the FOR FURTHER INFORMATION CONTACT section to coordinate protest activities so that your message can be received without jeopardizing the safety or security of people, places, or vessels.

V. Public Participation and Request for Comments

We view public participation as essential to effective rulemaking and will consider all comments and material received during the comment period. Your comment can help shape the outcome of this rulemaking. If you submit a comment, please include the docket number for this rulemaking, indicate the specific section of this document to which each comment applies, and provide a reason for each suggestion or recommendation.

Submitting comments. We encourage you to submit comments through the Federal Decision-Making Portal at https://www.regulations.gov. To do so, go to https://www.regulations.gov, type USCG-2023-0985 in the search box and click “Search.” Next, look for this document in the Search Results column, and click on it. Then click on the Comment option. If you cannot submit your material by using https://www.regulations.gov, call or email the person in the FOR FURTHER INFORMATION CONTACT section of this proposed rule for alternate instructions.

Viewing material in docket. To view documents mentioned in this proposed rule as being available in the docket, find the docket as described in the previous paragraph, and then select “Supporting & Related Material” in the Document Type column. Public comments will also be placed in our online docket and can be viewed by following instructions on the https://www.regulations.gov Frequently Asked Questions web page. We review all comments received, but we will only post comments that address the topic of the proposed rule. We may choose not to post off-topic, inappropriate, or duplicate comments that we receive.

Personal information. We accept anonymous comments. Comments we post to https://www.regulations.gov will include any personal information you have provided. For more about privacy and submissions to the docket in response to this document, see DHS's eRulemaking System of Records notice (85 FR 14226, March 11, 2020).

List of Subjects in 33 CFR Part 147

Continental shelf, Marine safety, Navigation (waters).

For the reasons discussed in the preamble, the Coast Guard is proposing to amend 33 CFR part 147 as follows:

PART 147—SAFETY ZONES

1. The authority citation for part 147 continues to read as follows:

Authority: 14 U.S.C. 544; 43 U.S.C 1333; 33 CFR 1.05-1; Department of Homeland Security Delegation No. 00170.1, Revision No. 01.3.

2. Add § 147.T01-0985 to read as follows:

§ 147.T01-0985 Safety Zones; Coastal Virginial Offshore Wind—Commercial Wind Farm Project Area, Outer Continental Shelf, Lease OCS-A 0483, Offshore Virginia, Atlantic Ocean.

(a) Description. The area within 500 meters of the center point of each of the positions provided in the table below is an individual safety zone:

Name | Facility type | Latitude | Longitude
G1K11 | WTG | 36°52′10.43097128″ N | 075°20′50.55112518″ W
G1M03 | WTG | 36°50′17.85976540″ N | 075°28′04.02927152″ W
G1K12 | WTG | 36°52′10.59092864″ N | 075°19′54.56958689″ W
G1M04 | WTG | 36°50′18.07627889″ N | 075°27′08.07134847″ W
G1K13 | WTG | 36°52′10.74355846″ N | 075°18′58.58792867″ W
G1M05 | WTG | 36°50′18.28547996″ N | 075°26′12.11326220″ W
G1K14 | WTG | 36°52′10.88886719″ N | 075°18′02.60615617″ W
G1M06 | WTG | 36°50′18.48736529″ N | 075°25′16.15501832″ W
G1K15 | WTG | 36°52′11.02685154″ N | 075°17′06.62427499″ W
G1M07 | WTG | 36°50′18.68193157″ N | 075°24′20.19662240″ W
G1K16 | WTG | 36°52′11.15750822″ N | 075°16′10.64229074″ W
G1M08 | WTG | 36°50′18.86918522″ N | 075°23′24.23808009″ W
G1K17 | WTG | 36°52′11.28084368″ N | 075°15′14.66020907″ W
G1M09 | WTG | 36°50′19.04912296″ N | 075°22′28.27939699″ W
G1K18 | WTG | 36°52′11.39685463″ N | 075°14′18.67803558″ W
G1M10 | WTG | 36°50′19.22174146″ N | 075°21′32.32057869″ W
G1K19 | WTG | 36°52′11.50553780″ N | 075°13′22.69577588″ W
G1M11 | WTG | 36°50′19.38704718″ N | 075°20′36.36163083″ W
G1L03 | WTG | 36°51′13.39015630″ N | 075°28′11.19226080″ W
G1M12 | WTG | 36°50′19.54503681″ N | 075°19′40.40255901″ W
G1L04 | WTG | 36°51′13.60768637″ N | 075°27′15.22311182″ W
G1M13 | WTG | 36°50′19.69570706″ N | 075°18′44.44336883″ W
G1L05 | WTG | 36°51′13.81789345″ N | 075°26′19.25379877″ W
G1M14 | WTG | 36°50′19.83906437″ N | 075°17′48.48406591″ W
G1L06 | WTG | 36°51′14.02078396″ N | 075°25′23.28432730″ W
G1M15 | WTG | 36°50′19.97510546″ N | 075°16′52.52465182″ W
G1L07 | WTG | 36°51′14.21635459″ N | 075°24′27.31470302″ W
G1M16 | WTG | 36°50′20.10382703″ N | 075°15′56.56514024″ W
G1L08 | WTG | 36°51′14.40460203″ N | 075°23′31.34493152″ W
G1M17 | WTG | 36°50′20.22523552″ N | 075°15′00.60553275″ W
G1L09 | WTG | 36°51′14.58553272″ N | 075°22′35.37501844″ W
G1M18 | WTG | 36°50′20.33932767″ N | 075°14′04.64583497″ W
G1L10 | WTG | 36°51′14.75914336″ N | 075°21′39.40496939″ W
G1M19 | WTG | 36°50′20.44610343″ N | 075°13′08.68605250″ W
G1L12 | WTG | 36°51′15.08440100″ N | 075°19′47.46448580″ W
G1N03 | WTG | 36°49′22.32924535″ N | 075°27′56.82891331″ W
G1L13 | WTG | 36°51′15.23605115″ N | 075°18′51.49406251″ W
G1N04 | WTG | 36°49′22.54474453″ N | 075°27′00.88220767″ W
G1L14 | WTG | 36°51′15.38038104″ N | 075°17′55.52352570″ W
G1N05 | WTG | 36°49′22.75293211″ N | 075°26′04.93533961″ W
G1L15 | WTG | 36°51′15.51738738″ N | 075°16′59.55288098″ W
G1N06 | WTG | 36°49′22.95380477″ N | 075°25′08.98831473″ W
G1L16 | WTG | 36°51′15.64707661″ N | 075°16′03.58213399″ W
G1N07 | WTG | 36°49′23.14736895″ N | 075°24′13.04113865″ W
G1L17 | WTG | 36°51′15.76944545″ N | 075°15′07.61129032″ W
G1N08 | WTG | 36°49′23.33362134″ N | 075°23′17.09381697″ W
G1L18 | WTG | 36°51′15.88449062″ N | 075°14′11.64035558″ W
G1N09 | WTG | 36°49′23.51255863″ N | 075°22′21.14635529″ W
G1L19 | WTG | 36°51′15.99221858″ N | 075°13′15.66933541″ W
G1N10 | WTG | 36°49′23.68418726″ N | 075°21′25.19875519″ W
G1N11 | WTG | 36°49′23.84850393″ N | 075°20′29.25103034″ W
G2F06 | WTG | 36°55′51.61831765″ N | 075°25′59.09646230″ W
G1N12 | WTG | 36°49′24.00550534″ N | 075°19′33.30318231″ W
G2F07 | WTG | 36°55′51.81892515″ N | 075°25′03.07058271″ W
G1N13 | WTG | 36°49′24.15519793″ N | 075°18′37.35521671″ W
G2F08 | WTG | 36°55′52.01218908″ N | 075°24′07.04455187″ W
G1N14 | WTG | 36°49′24.29757841″ N | 075°17′41.40713915″ W
G2F09 | WTG | 36°55′52.19811586″ N | 075°23′11.01837544″ W
G1N15 | WTG | 36°49′24.43264349″ N | 075°16′45.45895522″ W
G2F10 | WTG | 36°55′52.37670219″ N | 075°22′14.99205905″ W
G1N16 | WTG | 36°49′24.56039962″ N | 075°15′49.51067054″ W
G2F11 | WTG | 36°55′52.54794477″ N | 075°21′18.96560832″ W
G1N17 | WTG | 36°49′24.68084352″ N | 075°14′53.56229072″ W
G2G03 | WTG | 36°54′55.47610540″ N | 075°28′39.95488075″ W
G1N18 | WTG | 36°49′24.79397189″ N | 075°13′57.61382134″ W
G2G04 | WTG | 36°54′55.69770649″ N | 075°27′43.94075021″ W
G1N19 | WTG | 36°49′24.89979121″ N | 075°13′01.66526804″ W
G2G05 | WTG | 36°54′55.91197477″ N | 075°26′47.92645237″ W
G2B06 | WTG | 36°59′33.71078023″ N | 075°26′27.78408472″ W
G2G06 | WTG | 36°54′56.11890692″ N | 075°25′51.91199284″ W
G2B07 | WTG | 36°59′33.91543395″ N | 075°25′31.71304424″ W
G2G08 | WTG | 36°54′56.51075936″ N | 075°23′59.88261121″ W
G2C05 | WTG | 36°58′38.57467997″ N | 075°27′20.62031850″ W
G2G09 | WTG | 36°54′56.69568276″ N | 075°23′03.86770040″ W
G2C06 | WTG | 36°58′38.21250366″ N | 075°26′20.58758650″ W
G2G10 | WTG | 36°54′56.87326655″ N | 075°22′07.85265041″ W
G2C07 | WTG | 36°58′38.41606238″ N | 075°25′24.55006971″ W
G2H03 | WTG | 36°53′59.94685093″ N | 075°28′32.77985639″ W
G2D04 | WTG | 36°57′42.25404052″ N | 075°28′05.53076883″ W
G2H04 | WTG | 36°54′00.16743776″ N | 075°27′36.77698565″ W
G2D05 | WTG | 36°57′42.47136588″ N | 075°27′09.48264513″ W
G2H05 | WTG | 36°54′00.38069261″ N | 075°26′40.77394842″ W
G2D06 | WTG | 36°57′42.68134287″ N | 075°26′13.43435729″ W
G2H06 | WTG | 36°54′00.58661217″ N | 075°25′44.77075028″ W
G2D07 | WTG | 36°57′42.88396818″ N | 075°25′17.38591093″ W
G2H07 | WTG | 36°54′00.78520287″ N | 075°24′48.76739692″ W
G2D08 | WTG | 36°57′43.07924823″ N | 075°24′21.33731172″ W
G2H08 | WTG | 36°54′00.97646139″ N | 075°23′52.76389394″ W
G2D09 | WTG | 36°57′43.26717972″ N | 075°23′25.28856531″ W
G2H09 | WTG | 36°54′01.16038445″ N | 075°22′56.76024694″ W
G2D10 | WTG | 36°57′43.44775934″ N | 075°22′29.23967731″ W
G2J03 | WTG | 36°53′04.41747586″ N | 075°28′25.56744405″ W
G2D11 | WTG | 36°57′43.62099353″ N | 075°21′33.19065340″ W
G2J04 | WTG | 36°53′04.63703769″ N | 075°27′29.57582449″ W
G2E03 | WTG | 36°56′46.50113710″ N | 075°28′54.35420276″ W
G2J05 | WTG | 36°53′04.84927487″ N | 075°26′33.58403927″ W
G2E04 | WTG | 36°56′46.72478481″ N | 075°27′58.31753397″ W
G2J06 | WTG | 36°53′05.05418408″ N | 075°25′37.59209399″ W
G2E05 | WTG | 36°56′46.94108831″ N | 075°27′02.28069620″ W
G2J07 | WTG | 36°53′05.25176202″ N | 075°24′41.59999425″ W
G2E06 | WTG | 36°56′47.15004427″ N | 075°26′06.24369509″ W
G2J09 | WTG | 36°53′05.62494006″ N | 075°22′49.61534996″ W
G2E07 | WTG | 36°56′47.35165913″ N | 075°25′10.20653631″ W
G2K03 | WTG | 36°52′08.88765106″ N | 075°28′18.39844436″ W
G2E08 | WTG | 36°56′47.54592958″ N | 075°24′14.16922549″ W
G2K04 | WTG | 36°52′09.10620073″ N | 075°27′22.41806364″ W
G2E09 | WTG | 36°56′47.73285231″ N | 075°23′18.13176420″ W
G2K05 | WTG | 36°52′09.31742657″ N | 075°26′26.43752208″ W
G2E10 | WTG | 36°56′47.91243374″ N | 075°22′22.09416621″ W
G2K06 | WTG | 36°52′09.52132527″ N | 075°25′30.45682126″ W
G2E11 | WTG | 36°56′48.08467058″ N | 075°21′26.05643310″ W
G2K07 | WTG | 36°52′09.71790326″ N | 075°24′34.47596683″ W
G2F03 | WTG | 36°55′50.97245702″ N | 075°28′47.17314135″ W
G2K08 | WTG | 36°52′09.90715725″ N | 075°23′38.49496439″ W
G2F04 | WTG | 36°55′51.19508514″ N | 075°27′51.14774524″ W
G2K09 | WTG | 36°52′10.08908391″ N | 075°22′42.51381954″ W
G2F05 | WTG | 36°55′51.41036987″ N | 075°26′55.12218502″ W
G3F14 | WTG | 36°55′53.01763543″ N | 075°18′30.88550656″ W
G3B12 | WTG | 36°59′34.82834796″ N | 075°20′51.35563765″ W
G3F15 | WTG | 36°55′53.15951871″ N | 075°17′34.85857490″ W
G3B13 | WTG | 36°59′34.98885750″ N | 075°19′55.28375508″ W
G3F16 | WTG | 36°55′53.29406124″ N | 075°16′38.83153710″ W
G3B14 | WTG | 36°59′35.14201327″ N | 075°18′59.21175196″ W
G3F19 | WTG | 36°55′53.65364064″ N | 075°13′50.74984322″ W
G3B15 | WTG | 36°59′35.28781198″ N | 075°18′03.13963394″ W
G3G11 | WTG | 36°54′57.04351716″ N | 075°21′11.83746691″ W
G3B16 | WTG | 36°59′35.42625034″ N | 075°17′07.06740666″ W
G3G12 | WTG | 36°54′57.20643128″ N | 075°20′15.82215551″ W
G3B17 | WTG | 36°59′35.55733479″ N | 075°16′10.99507580″ W
G3G13 | WTG | 36°54′57.36200563″ N | 075°19′19.80672183″ W
G3B18 | WTG | 36°59′35.68106205″ N | 075°15′14.92264701″ W
G3G14 | WTG | 36°54′57.51024665″ N | 075°18′23.79117153″ W
G3C12 | WTG | 36°58′39.32403511″ N | 075°20′44.22693929″ W
G3G16 | WTG | 36°54′57.78471551″ N | 075°16′31.75974356″ W
G3C13 | WTG | 36°58′39.48355669″ N | 075°19′48.16635951″ W
G3G17 | WTG | 36°54′57.91094652″ N | 075°15′35.74387716″ W
G3C14 | WTG | 36°58′39.63572535″ N | 075°18′52.10565996″ W
G3G18 | WTG | 36°54′58.02984078″ N | 075°14′39.72791666″ W
G3C16 | WTG | 36°58′39.91800046″ N | 075°16′59.98392414″ W
G3G19 | WTG | 36°54′58.14139499″ N | 075°13′43.71186768″ W
G3C17 | WTG | 36°58′40.04811007″ N | 075°16′03.92289920″ W
G3H12 | WTG | 36°54′01.66816614″ N | 075°20′08.74849831″ W
G3C18 | WTG | 36°58′40.17086334″ N | 075°15′07.86177303″ W
G3H13 | WTG | 36°54′01.82276296″ N | 075°19′12.74433164″ W
G3C19 | WTG | 36°58′40.28626670″ N | 075°14′11.80055940″ W
G3H14 | WTG | 36°54′01.97002729″ N | 075°18′16.74004507″ W
G3C20 | WTG | 36°58′40.39431689″ N | 075°13′15.73925991″ W
G3H16 | WTG | 36°54′02.24255501″ N | 075°16′24.73115496″ W
G3D12 | WTG | 36°57′43.78687899″ N | 075°20′37.14149923″ W
G3H17 | WTG | 36°54′02.36782157″ N | 075°15′28.72655864″ W
G3D13 | WTG | 36°57′43.94541242″ N | 075°19′41.09222040″ W
G3H19 | WTG | 36°54′02.59635341″ N | 075°13′36.71709160″ W
G3D14 | WTG | 36°57′44.09660027″ N | 075°18′45.04281857″ W
G3J12 | WTG | 36°53′06.12974216″ N | 075°20′01.63737188″ W
G3D16 | WTG | 36°57′44.37692600″ N | 075°16′52.94368860″ W
G3J13 | WTG | 36°53′06.28335394″ N | 075°19′05.64446363″ W
G3D17 | WTG | 36°57′44.50606705″ N | 075°15′56.89396774″ W
G3J15 | WTG | 36°53′06.56858897″ N | 075°17′13.65830753″ W
G3D18 | WTG | 36°57′44.62785910″ N | 075°15′00.84415047″ W
G3J16 | WTG | 36°53′06.70021537″ N | 075°16′17.66507094″ W
G3D19 | WTG | 36°57′44.74230209″ N | 075°14′04.79424245″ W
G3J17 | WTG | 36°53′06.82450998″ N | 075°15′21.67173614″ W
G3D20 | WTG | 36°57′44.84939275″ N | 075°13′08.74424932″ W
G3J18 | WTG | 36°53′06.94147924″ N | 075°14′25.67830877″ W
G3E13 | WTG | 36°56′48.40710702″ N | 075°19′33.98058407″ W
G3J19 | WTG | 36°53′07.05111989″ N | 075°13′29.68479445″ W
G3E14 | WTG | 36°56′48.55730976″ N | 075°18′37.94247944″ W
T1L11 | OSS | 36°51′14.92543064″ N | 075°20′43.43478996″ W
G3E15 | WTG | 36°56′48.70016447″ N | 075°17′41.90426225″ W
T2G07 | OSS | 36°54′56.31849964″ N | 075°24′55.89737723″ W
G3E16 | WTG | 36°56′48.83567758″ N | 075°16′45.86593816″ W
T3G15 | OSS | 36°54′57.65115104″ N | 075°17′27.77551023″ W
G3E17 | WTG | 36°56′48.96384581″ N | 075°15′49.82751279″ W
G3E18 | WTG | 36°56′49.08466587″ N | 075°14′53.78899178″ W
G3F12 | WTG | 36°55′52.71185004″ N | 075°20′22.93902891″ W
G3F13 | WTG | 36°55′52.86841469″ N | 075°19′26.91232645″ W

(b) Definitions. As used in this section, designated representative means a Coast Guard Patrol Commander, including a Coast Guard coxswain, petty officer, or other officer operating a Coast Guard vessel and a Federal, State, and local officer designated by or assisting the Fifth Coast Guard District Commander in the enforcement of the safety zones.

(c) Regulations. No vessel may enter or remain in this safety zone except for the following:

(1) An attending vessel, as defined in 33 CFR 147.20;

(2) A vessel authorized by the Fifth Coast Guard District Commander or a designated representative.

(d) Request for Permission. Persons or vessels seeking to enter the safety zone must request authorization from the Fifth Coast Guard District Commander or a designated representative. If permission is granted, all persons and vessels must comply with lawful instructions of the Fifth Coast Guard District Commander or designated representative via VHF-FM channel 16 or by phone at 757-398-6391 (Fifth Coast Guard District Command Center).

(e) Effective and enforcement periods. This section will be in effect from May 1, 2024, through 11:59 p.m. on May 1, 2027. Individual safety zones designated in the table in subparagraph (a) will only be subject to enforcement, however, during active construction or other circumstances which may create a hazard to navigation as determined by the Fifth Coast Guard District Commander. The Fifth Coast Guard District Commander will provide notification of the exact dates and times each safety zone is subject to enforcement in advance of each enforcement period for each of the locations listed above, in paragraph (a) of this section. Notifications will be made to the local maritime community through the Local Notice to Mariners and the Coast Guard will issue a Broadcast Notice to Mariners via marine channel 16 (VHF-FM) as soon as practicable in response to an emergency. If the entire project is completed before May 1, 2027, enforcement of the safety zones will be suspended, and notice given via Local Notice to Mariners. The Fifth Coast Guard District Local Notice to Mariners can be found at: https://www.navcen.uscg.gov.

Dated: January 22, 2024.
S.N. Gilreath,
Rear Admiral, U.S. Coast Guard, Commander, Fifth Coast Guard District.

[FR Doc. 2024-01546 Filed 1-25-24; 8:45 am]

BILLING CODE 9110-04-P